ENVIRONMENTAL PROTECTION AGENCY

40 CFR Part 52

[EPA-R08-OAR-2017-0672; FRL-9975-47—Region 8]

Approval and Promulgation of Implementation Plans; South Dakota; Regional Haze 5-Year Progress Report State Implementation Plan

AGENCY: Environmental Protection Agency (EPA).

ACTION: Proposed rule.

SUMMARY: The Environmental Protection Agency (EPA) is proposing to approve South Dakota's regional haze progress report, submitted as a revision to its State Implementation Plan (SIP) by the South Dakota Department of Environment and Natural Resources (DENR). South Dakota's SIP revision addresses requirements of the Clean Air Act (CAA) and the EPA's rules that require states to submit periodic reports describing progress toward reasonable progress goals established for regional haze and a determination of the adequacy of the state's existing regional haze SIP. South Dakota's progress report explains that South Dakota has implemented the measures in the regional haze SIP due to be in place by the date of the progress report and that visibility in mandatory federal Class I areas affected by emissions from South Dakota sources is improving. The EPA is proposing approval of South Dakota's determination that the State's regional haze SIP is adequate to meet Reasonable Progress Goals (RPGs) for the first implementation period covering through 2018 and requires no substantive revision at this time.

DATES: Comments must be received on or before April 18, 2018.

ADDRESSES: Submit your comments, identified by Docket ID No. EPA-R08-OAR-2017-0672 at http://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Kate Gregory, Air Program, Environmental Protection Agency, 1595 Wynkoop Street, Denver, Colorado 80202-1129, (303) 312-6175, or by email at gregory.kate@epa.gov.

SUPPLEMENTARY INFORMATION:

I. Background

States are required to submit progress reports that evaluate progress towards the RPGs for each mandatory federal Class I area ¹ (Class I area) within the state and in each Class I area outside the state that may be affected by emissions from within the state. 40 CFR 51.308(g). In addition, the provisions of 40 CFR 51.308(h) require states to submit, at the same time as the 40 CFR 51.308(g) progress report, a determination of the adequacy of the state's existing regional haze SIP. The first progress report must take the form of a SIP revision and is due 5 years after submittal of the initial regional haze SIP. On January 21, 2011, South Dakota submitted the State's first regional haze SIP in accordance with 40 CFR 51.308.²

¹ Areas designated as mandatory Class I federal areas consist of national parks exceeding 6000 acres, wilderness areas and national memorial parks exceeding 5000 acres, and all international parks that were in existence on August 7, 1977 (42 U.S.C. 7472(a)). Listed at 40 CFR part 81, subpart D.

² 77 FR 24845 (April 26, 2012). EPA fully approved South Dakota's regional haze SIP submittal addressing the requirements of the first implementation period for regional haze.

On January 27, 2016, South Dakota submitted as a revision to its SIP a progress report which detailed the progress made in the first planning period toward implementation of the Long Term Strategy (LTS) outlined in the 2011 regional haze SIP submittal, the visibility improvement measured at Class I areas affected by emissions from South Dakota sources, and a determination of the adequacy of the State's existing regional haze SIP. The State provided public notice for comment on the Progress Report from December 22, 2015, to January 20, 2015, and received no comment. The EPA is proposing to approve South Dakota's January 27, 2016 SIP submittal.

II. EPA's Evaluation of South Dakota's Progress Report and Adequacy Determination

A. Regional Haze Progress Report

This section includes the EPA's analysis of South Dakota's Progress Report and an explanation of the basis for the Agency's proposed approval. The State's Progress Report evaluates the most recent visibility results against the 2018 Uniform Rate of Progress Goals (URP Goals), instead of the 2018 RPGs specified in the regional haze regulations. South Dakota's Progress Report explains they used the URP Goals because “South Dakota's Class I areas have exceeded the reasonable progress goals that were established” and “[w]ith emissions reductions that are expected from the addition of BART controls at Big Stone and other facilities throughout the region, DENR expects that the improvements will continue and South Dakota's Class I areas will meet the 2018 uniform rate of progress goals.” ³ Since the regional haze regulations require an evaluation of visibility progress against the 2018 RPGs, our evaluation of South Dakota's SIP focuses on the RPGs.

³ South Dakota Progress Report, Appendix B, p. B-2.

1. Control Measures

In its Progress Report, South Dakota summarizes the emissions reduction measures that were relied upon by South Dakota in its regional haze plan for ensuring reasonable progress at the two Class I areas within the State: Badlands and Wind Cave National Parks. The State's regional haze SIP established reasonable progress goals for 2018.⁴ The emission reduction measures include applicable federal programs (e.g., mobile source rules), various existing South Dakota air quality rules, and a plan to “investigate the impacts of a smoke management plan” to determine what level of fires and what best management practices should be included in the plan, with the results adopted into the SIP as part of the LTS.⁵ South Dakota also reviewed the status of Best Available Retrofit Technology (BART) requirements for the sole BART-subject source in the state: The Big Stone I coal-fired power plant, owned by Montana-Dakota Utilities Company, NorthWestern Energy, and Otter Tail Power Company, located near Big Stone City, South Dakota.

⁴ 40 CFR 52.2170(c)(1). 77 FR 24845, 25855 (April 26, 2012) (final RH SIP approving South Dakota's Regional Haze SIP, Amendment, Section 7.2, Table 7-1, p. 106). 76 FR 76646, 76664 (December 8, 2011) (proposed RH SIP approval, Tables 20 and 21).

⁵ South Dakota's Regional Haze State Implementation Plan: 5-Year Progress Report, p. 6 (“South Dakota Progress Report”). South Dakota SIP. pp. 121-122 (January 18, 2011 submittal).

The Progress Report presents the extensive information collected and analyzed to investigate the impacts of a smoke management plan.⁶ In reviewing “the annual values for the aerosol species at the Wind Cave National Park” the State “was concerned about the extremely high value for particulate organic mass and elemental carbon in 2010.” The report further explained that “[d]ue to the fact that particulate organic mass and elemental carbons are typically associated with fire, the DENR researched a fire database” and found that “[i]n 2010, the National Park Service conducted a 5,500 acre prescribed fire at the Wind Cave National Park just a mile from the monitoring site.” The Progress Report explains that this fire created two of the 20% most impaired days at the park and the main contributor was particulate organic mass.” ⁷

⁶ South Dakota Progress Report, pp. 9-12, 19-21, 24-27, 29-33, 37, 40-42.

⁷ South Dakota Progress Report, p. 11. The results of this fire are discussed in more detail in Sections 3.5 and 3.6 of the Report.

In analyzing changes in nitrogen oxide emissions from 2002 through 2011, the Report explained that “[t]he only real increase in nitrogen oxide emissions was from anthropogenic fires with an increase of 970 tons per year.” ⁸ Notably, during the same timeframe, the Report noted that “sulfur dioxide emissions in South Dakota decreased by just less than 8,500 tons per year” and that “[t]he largest decreases were seen in anthropogenic off-road mobile and point sources with a small decrease in natural fire.” ⁹ The State also looked at primary organic aerosol emissions that “are produced by both anthropogenic and natural sources but are most commonly associated with fire,” and found that for 2002-2011 timeframe “[t]he largest decrease was seen in natural fires at just fewer than 4,000 tons.” ¹⁰ The Report included information on elemental carbon emissions, noted that natural sources of those emissions include fire. The State explained that while there was a small decrease in natural fire over the 2002-2011 timeframe, the data showed minor increases in anthropogenic fire.¹¹ During the same timeframe fine soil emissions decreased, which included decreases in natural fire.¹² South Dakota also included information in the Report on coarse soil emissions over the 2002-2011 timeframe, and while there was an increase of over 57,000 tons during that timeframe, anthropogenic fire contributed to only 223 tons of those emissions.¹³ Additionally, while the Report shows ammonia emissions increased over the 2002-2011 timeframe by “just over 9,500 tons,” emissions from natural fire decreased.¹⁴ Overall nitrogen dioxide emissions and natural biogenic emissions decreased, however, there were small increases from anthropogenic fires.¹⁵ The Report shows both volatile organic compound (VOC) emissions and carbon monoxide (CO) emissions decreasing over the 2002-2011 timeframe, despite increases in anthropogenic fire at 9,551 tons and 38,155 tons respectively.¹⁶

⁸ South Dakota Progress Report, pp. 17-18.

⁹ South Dakota Progress Report, p. 17.

¹⁰ South Dakota Progress Report, p. 19.

¹¹ South Dakota Progress Report, pp. 20-21.

¹² South Dakota Progress Report, p. 22.

¹³ South Dakota Progress Report, p. 23.

¹⁴ South Dakota Progress Report, p. 24.

¹⁵ South Dakota Progress Report, p. 24.

¹⁶ South Dakota Progress Report, pp. 25-27.

In its Progress Report, South Dakota provides Interagency Monitoring of Protected Visual Environments (IMPROVE) data which shows the impacts of prescribed fires conducted by the National Park Service (NPS) at Wind Cave National Park in 2009 and 2010.¹⁷ The Report includes two examples of the IMPROVE data that show that the NPS prescribed fires on both September 3, 2009, and October 20, 2010, contributed high levels of both particulate organic mass and elemental carbon on both days.¹⁸ Additionally, the Report provides monitoring data which shows that particulate organic matter is “the second largest contributor [sic?] to visibility extinction at the Badlands National Park during the 20% most impaired days” and that particulate matter (PM) is typically the product of fire.¹⁹ South Dakota also provides analysis which shows particulate mass levels on the 20 percent most impaired days without the impacts from the NPS prescribed fires. This analysis shows that “if Wind Cave National Park would not have experienced the prescribed fires by Federal Land Managers, the Wind Cave's National Park's particulate organic mass levels would be below the Uniform Glide Slope similar to the Badlands National Park Uniform Glide Slope for particulate organic mass”.²⁰ Additionally, the State explained that while it was preparing the Progress Report, more prescribed fire events occurred in 2015 that will likely show impacts to the Class I areas.²¹ Finally, in its Progress Report, South Dakota explains that “DENR and Federal Land Managers in South Dakota have improved coordination and communications over the past few years and plan to continue that effort to help mitigate the impacts of prescribed fires” at Wind Cave and Badlands National Parks.²²

¹⁷ South Dakota Progress Report, p. 29.

¹⁸ South Dakota Progress Report, Table 3-28, p. 31 and Table 3-29, p. 33.

¹⁹ South Dakota Progress Report, Table 3-10, pp. 35, 37.

²⁰ South Dakota Progress Report, p. 40 and Figures 3-22, 3-23, p. 41.

²¹ South Dakota Progress Report, p. 33.

²² South Dakota Progress Report, pp. 41-42, Appendix B, pp. B-2—B-3. At the suggestion of the National Park Service, the DENR also looked at the Fire Emissions Tracking System and noted that it may be a useful tool going forward as the DENR continues to track prescribed fires and their impacts on the Class I areas.

In its Progress Report, South Dakota provides an update on the status of the BART determination at the Big Stone I power plant and the subsequent action taken given the determination. The BART determination, which was finalized for Big Stone I on December 7, 2010, was approved by the EPA,²³ and includes a selective catalytic reduction (SCR) system and separated over-fire-air (SOFA) installed in the power plant's main boiler for nitrogen oxide (NOX) control, a dry flue gas desulfurization (FGD) system for sulfur dioxide (SO2) control, and a fabric filter system for PM control.²⁴ In the Progress Report, the State describes the installation and operation of the required BART controls by the end of 2015, as required by the State's Regional Haze Implementation Plan.²⁵ The EPA has confirmed installation and operation of the pollution controls the State describes in its Progress Report, and has confirmed that the emissions limits in the SIP were met by the required date of June 28, 2017.²⁶

²³ 76 FR 24845 (April 26, 2012).

²⁴ 37 SDR 111 (December 7, 2010).

²⁵ 77 FR 24845 (April 26, 2012).

²⁶ Big Stone Annual Emissions 2000-2017, information available in the docket.

As shown in Table 1, BART controls at Big Stone I have resulted in a substantial decrease in both SO2 and NOX emissions (a 94 and 91 percent decrease in emissions from 2013 2014 levels, respectively).²⁷ These are larger reductions in emissions than the State estimated in the Progress Report and represent a clear downward trend since BART controls were installed and operational in late 2015.²⁸

²⁷ Big Stone Annual Emissions 2000-2017.

²⁸ South Dakota Progress Report, p. 7.

²⁹ Big Stone Annual Emissions 2000-2017.

Table 1—Big Stone I Power Plant Emissions Pre and Post BART Control
[Actual, average tons] ²⁹
Calendar year | NOX (actual, average tons) | SO2 (actual, average tons)
2000-2004 (Baseline) | 13,090.59 | 16,270.48
2013, 2014 (pre BART) | 10,860.11 | 14,592.54
% Emissions Reduction (baseline vs. pre BART ) | 17% | 10%
2016, 2017 (post BART) | 973.18 | 836.33
% Emissions Reduction (pre BART vs. post BART) | 91% | 94%

EPA proposes to find that South Dakota has adequately addressed the applicable provisions under 40 CFR 51.308(g)(1) regarding the implementation status of control measures because the State's Report provides documentation of the implementation of measures within South Dakota, including BART at the sole BART-subject source in the State and the State's efforts to develop the smoke management plan.

2. Emissions Reductions

As discussed above, South Dakota focused its assessment in its regional haze plan and Progress Report on emissions reductions from pollution control strategies that were implemented at the Big Stone I power plant by the end of calendar year 2015. The EPA has confirmed installation and operation of the pollution controls the State describes in their Progress Report. In its Progress Report, South Dakota provides a comparison of Big Stone I's actual SO2 and NOX emission rates to BART limits for the pollutants 2010-2014.³⁰ Additionally, South Dakota provides statewide SO2, NOX and PM (fine and course) emissions data (among other pollutants) from Western Regional Air Partnership (WRAP) emissions inventories.³¹ The WRAP data shows that there were decreases in emissions of SO2, NOX and PM (fine and course) over the time period (i.e., 2002, 2008, 2011) of the three emissions inventories listed (Plan02d, 2008 West Jump and 2011WAQDW).

³⁰ South Dakota Progress Report, Table 3-1, p. 8.

³¹ South Dakota Progress Report, Table 3-2, p. 8. The WRAP's inventories were developed using EPA's National Emissions Inventory (NEI) and other sources (https://www.wrapair2.org/emissions.aspx). The NEI is based primarily upon data provided by state, local, and tribal air agencies (including South Dakota) for sources in their jurisdiction and supplemented by data developed by the EPA.

The EPA proposes to find that South Dakota has adequately addressed the applicable provisions of 40 CFR 51.308(g)(2) regarding emissions reductions achieved because the State identifies emissions reductions for pollutants SO2, NOX and PM (fine and course) and presents sufficient information and discussion regarding emissions trends during this period.

3. Visibility Conditions

In its Progress Report, South Dakota provides information on visibility conditions for the Class I areas within its borders. The Progress Report addressed current visibility conditions and the difference between current visibility conditions and baseline visibility conditions, expressed in terms of 5-year averages of these annual values, with values for the most impaired, least impaired and/or clearest days. The period for calculating current visibility conditions is the most recent 5-year period preceding the required date of the progress report for which data were available as of a date 6 months preceding the required date of the progress report.

South Dakota's Progress Report provides figures with visibility monitoring data for the two Class I areas within the State: Badlands and Wind Cave National Parks. South Dakota reported current visibility conditions for both the 2007-2011 and 2009-2013 5-year time periods and used the 2000-2004 baseline period for its Class I areas.³² Table 2, below, shows the visibility conditions for both the 2007-2011 and 2009-2013 5-year time periods, the difference between these current visibility conditions and baseline visibility conditions, and the 2018 RPGs.

³² For the first regional haze plans, “baseline” conditions were represented by the 2000-2004 time period. See 64 FR 35730 (July 1, 1999).

Table 2—Baseline Visibility, Current Visibility, Visibility Changes, and 2018 RPGs in South Dakota's Class I Areas
[Deciviews]
Class I area | Baseline (2000-2004) | Current (2007-2011) | Difference (baseline vs. current) | More current (2009-2013) | Difference (current vs. more current) | Difference (baseline vs. more current) | SD 2018 RPG
20% Worst Days
Badlands National Park | 17.1 | 16.3 | −0.8 | 15.7 | −0.6 | −1.4 | ³³ 16.30
20% Best Days
Badlands National Park | 6.9 | 6.5 | −0.4 | 5.8 | −0.7 | −1.1 | ³⁴ 6.64
20% Worst Days
Wind Cave National Park | 15.8 | 14.9 | −0.9 | 14.1 | −0.8 | −1.7 | ³⁵ 15.28
20% Best Days
Wind Cave National Park | 5.1 | 4.4 | −0.7 | 3.9 | −0.5 | −1.2 | ³⁶ 5.02

As shown in Table 2, both Badlands and Wind Cave National Parks saw an improvement in visibility between baseline and the 2007-2011 and 2009-2013 time periods.³⁷ South Dakota also reported 20 percent worst day and 20 percent best day visibility data for both Badlands and Wind Cave National Parks from 2005-2009 and 2008-2012 for each year in terms of 5-year averages.³⁸ This data shows an improvement in visibility at both class 1 areas on the 20 percent best days from 2005-2009 and on the 20 percent worst days from 2008-2012.

³³ 76 FR 76646, 76664 (December 8, 2011) (“South Dakota's reasonable progress goals for Badlands for 2018 for the 20% worst days represent a 0.84 deciviews improvement over baseline. . . ” Table 20. 77 FR 24845, 25855 (April 26, 2012) SD SIP pp. 105-106, (September 19, 2011) (“DENR relied on the [WRAP's] results of the CMAQ modeling in determining the reasonable progress achieved by South Dakota surrounding states, and federal regulations in South Dakota's Class I areas.”) South Dakota's SIP is included in the docket for this action).

³⁴ 76 FR 76646, 76664 (December 8, 2011) (Table 21). 77 FR 24845, 24855 (April 26, 2012).

³⁵ 76 FR 76646, 76664 (December 8, 2011) (South Dakota's “. . . reasonable progress goals for Wind Cave for 2018 represent a 0.56 deciviews improvement over baseline.” Table 20. 77 FR 24845, 24855 (April 26, 2012).

³⁶ 76 FR 76646, 76664 (December 8, 2011) (Table 21). 77 FR 24845, 24855 (April 26, 2012).

³⁷ South Dakota Progress Report, Table 3-17 and Table 3-18, p. 16.

³⁸ South Dakota Progress Report, Table 3-17 and Table 3-18, p. 16.

The EPA proposes to find that South Dakota has adequately addressed the applicable provisions under 40 CFR 51.308(g)(3) regarding assessment of visibility conditions because the State provided baseline visibility conditions (2000-2004), current conditions based on the most recently available visibility monitoring data available at the time of Progress Report development, the difference between these current sets of visibility conditions and baseline visibility conditions, and the change in visibility impairment from 2009-2013.

4. Emissions Tracking

In its Progress Report, South Dakota presents data from a statewide emissions inventory for 2011 (2011WAQDW) and compares this data to the baseline emissions inventory for 2002 (Plan02d).³⁹ The pollutants inventoried include SO2, NOX, Primary Organic Aerosols (POA), elemental carbon (EC), PM2.5 (fine), PM10 (coarse), NH3, VOCs and carbon monoxide (CO). The emissions inventories include the following source classifications: Point; area; on-road mobile; off-road mobile; area oil and gas; fugitive and road dust; anthropogenic fire; natural fire; biogenic and wind-blown dust from both anthropogenic and natural sources. Table 3 presents the 2002 and 2011 statewide emission inventories, and includes emissions from Big Stone I.

³⁹ WRAP Plan02d represents the State's baseline year (2002) emissions inventory. This emissions inventory was developed for use in the State's original Regional Haze SIP. See 77 FR 24845 (April 26, 2012). The 2011WAQDW emissions inventory is considered the most current inventory for the purposes of this element and was derived from the WRAP's 2011Western Air Quality Data Warehouse project for South Dakota.

Overall, as the table shows, South Dakota's emissions that affect visibility were reduced in all sectors for all pollutants, except for POA and NH3. Compared to the 2002 emission inventory South Dakota used to model haze (Plan02d), emissions in 2011 (2011WAQDW) were reduced by 38 percent for SO2, 48 percent for NOX, 4 percent for PM2.5 and 9 percent for PM10, respectively. There were slight increases in both POA and NH3 as can be seen in Table 3.40 41 Furthermore, the State provides actual SO2 and NOX emissions from Big Stone I, which demonstrates that emissions of both pollutants are trending lower per Table 1 above.⁴²

⁴⁰ South Dakota Progress Report, Tables 3-19, 3-20, 3-21, 3-23, 3-24, 3-25, pp. 17-24.

⁴¹ Many important changes in emissions inventory methodology occurred between 2007 or 2008 and the most current emissions inventory data presented by the State (2011WAQDW). One methodology change was the reclassification of some off-road mobile sources in the area source category, which may have resulted in the increase in NH3 and POA in the above comparison rather than an increase in actual emissions of these pollutants.

⁴² South Dakota Progress Report, Table 3-1.

Table 3—Changes in South Dakota Total Emissions, Statewide
[Tons per year]
Pollutant (all sources) | 2002 (Plan02d) and RH SIP ⁴³ | 2011 (2011WAQDW) | Difference
SO2 | 22,076 | 13,618 | -8,458
NOX | 146,764 | 75,560 | -71,204
PM2.5 | 82,414 | 79,058 | -3,356
PM10 | 615,345 | 557,508 | -57,837
POA | 9,168 | 9,563 | 395
NH3 | 120,406 | 129,972 | 9,566

The EPA is proposing to find that South Dakota adequately addressed the provisions of 40 CFR 51.308(g)(4) regarding emissions tracking because the State compared the most recent updated emission inventory data available at the time of Progress Report development with the baseline emissions inventory used in the modeling for the regional haze plan.

⁴³ 76 FR 76666, 76667, 76668 (December 8, 2011).

5. Assessment of Changes Impeding Visibility Progress

South Dakota also provided an assessment of any significant changes in anthropogenic emissions within or outside the State that have occurred, which included data collected during the years when there were prescribed fires that may have impeded progress towards reducing emissions or improving visibility.⁴⁴ South Dakota documented that ammonium sulfate continues to be the biggest single contributor to regional haze for the Badlands National Park Class I area in the State.⁴⁵

⁴⁴ South Dakota Progress Report, Figures 3-14, 3-15, p. 32, Table 3-29, p. 33.

⁴⁵ South Dakota Progress Report, pp. 9-11.

South Dakota also determined that particulate matter contributes the most to visibility impairment at Wind Cave National Park.⁴⁶ Additionally, the State presented data that shows that the prescribed fires at Wind Cave National Park conducted by the National Park Service, contributed to high levels of PM at the Class I area and, subsequently, the 20 percent most impaired days at the park in 2009 and 2010, respectively.⁴⁷ Even with the impacts from prescribed fires, the State's most current visibility assessments shows they are on track to meet the 2018 RPGs.

⁴⁶ South Dakota Progress Report, Table 3-10 and p. 29.

⁴⁷ South Dakota Progress Report, Tables 3-28 and 3-29, pp. 31, 33.

Assessment of South Dakota's contribution to haze in Class I areas outside of the State has shown that South Dakota emissions have, or may reasonably be expected to have, impacts on Class I areas in Minnesota, Montana, Wyoming and North Dakota.⁴⁸ In its Progress Report, the State references the initial Regional Haze SIP and BART analysis for Big Stone I, which indicates Big Stone power plant is the only facility that impacts Class I areas outside of South Dakota.⁴⁹ The BART controls installed and operational in late 2015 at Big Stone decreased NOX and SO2 emissions by 91 and 94 percent, respectively, which is a significant downward trend in these pollutants post BART.⁵⁰ Based on these findings, the EPA proposes to approve the State's conclusion that there have been no significant changes in emissions of visibility-impairing pollutants that have limited or impeded progress in reducing emissions and improving visibility in Class I areas impacted by the State's sources.

⁴⁸ 76 FR 76651 (December 8, 2011).

⁴⁹ South Dakota Progress Report, Appendix B, p. B-1.

⁵⁰ Big Stone Annual Emissions 2000-2017.

The EPA proposes to find that South Dakota has adequately addressed the provisions of 40 CFR 51.308(g)(5) regarding an assessment of significant changes in anthropogenic emissions. The EPA proposes to agree with South Dakota's conclusion that there have been no significant changes in emissions of visibility-impairing pollutants which have limited or impeded progress in reducing emissions and improving visibility in Class I areas impacted by the State's sources.

6. Assessment of Current Implementation Plan Elements and Strategies

In its Progress Report, South Dakota acknowledges the requirements of 40 CFR 51.308(g)(5) to discuss whether the current implementation plan elements and strategies are sufficient to enable the State, or other states with Class I areas affected by emissions from the State, to meet all established reasonable progress goals.⁵¹ As seen in Table 2, South Dakota's visibility assessment using the most current information available (2009-2013) shows that it is meeting the 2018 RPGs at both national parks, Badlands National Park 15.70 dv (current) versus 16.30 dv (2018 RPG) and Wind Cave National Park 14.10 dv (current) versus 15.28 dv (2018 RPG). The State also includes information regarding the 2018 URP Goals, but since those goals are not part of the 5-year assessment regulations, we do not include that information. The State concludes that no substantive revisions to the existing regional haze plan are necessary as the State is exceeding the 2018 RPGs for Badlands and Wind Cave National Parks.

⁵¹ South Dakota Progress Report, p. 34.

For Badlands National Park, the State anticipates that the 2018 visibility data will be lower than what was reported for the most recent data available because BART was fully implemented at Big Stone I by 2015. The reductions from Big Stone are significant and occurred after the most recent data included in the State's SIP. Second, the State explains that BART controls will be completed elsewhere throughout the region after 2013 and by 2018.⁵²

⁵² South Dakota Progress Report, p. 45.

Based on these findings, the EPA proposes to approve the State's conclusion that visibility at Badlands National Park is anticipated to meet or exceed the RPG for 2018.

For Wind Cave National Park, the State's visibility assessment in Table 2 shows that the State is currently meeting the 2018 RPG. Additionally, the emissions reductions from Big Stone I are significant and occurred after the most recent visibility data available. The State expects additional improvements in visibility from these reductions. The State's report concludes, that the current implementation plan is meeting the “reasonable progress goals.” ⁵³ Although the State's visibility assessment demonstrates that it is meeting the 2018 RPGs, the State explains that emission reductions from Big Stone I are significant and occurred after the most recent visibility data was available.

⁵³ South Dakota Progress Report, p. 45.

The State's SIP explains that particulate organic mass level is the number one contributor to visibility degradation at Wind Cave National Park,⁵⁴ and the level varies depending on the year and the number of the wildfires.⁵⁵ The SIP explains that the despite the spikes in particulate organic mass at Wind Cave, decreases in ammonium sulfate, ammonium nitrate and other aerosol species have led to decreased deciview levels at the Wind Cave National Park. The DENR anticipates this trend will continue and improve as the DENR continues to work with the National Park Service on prescribed fires in the Badlands and Wind Cave National Parks.⁵⁶

⁵⁴ South Dakota Progress Report, p. 40.

⁵⁵ South Dakota Progress Report, p. 38.

⁵⁶ South Dakota Progress Report, pp. 41-42.

The EPA proposes to find that South Dakota has adequately addressed the provisions of 40 CFR 51.308(g) regarding the strategy assessment, including the State's efforts to investigate the impacts of a smoke management plan, and agrees with the State's determination that its regional haze plan is sufficient to meet the RPGs for its Class I areas.

7. Review of Current Monitoring Strategy

For progress reports for the first implementation period, the provisions under 40 CFR 51.308(g) (7) require “a review of the State's visibility monitoring strategy and any modifications to the strategy as necessary.” In its Progress Report, South Dakota summarizes the existing monitoring network in the State to monitor visibility at Badlands and Wind Cave National Parks, which consists of DENR relying on the national IMPROVE network to meet monitoring and data collection goals.⁵⁷ There are currently IMPROVE sites located in both Badlands and Wind Cave National Parks.⁵⁸ Therefore, the State concludes that no modifications to the existing visibility monitoring strategy are necessary. The State will continue its reliance on the IMPROVE monitoring network. The IMPROVE monitoring network is the primary monitoring network for regional haze, both nationwide and in South Dakota.

⁵⁷ South Dakota Progress Report, p. 42.

⁵⁸ South Dakota Progress Report, p. 2.

The State also explains the importance of the IMPROVE monitoring network for tracking visibility trends at the Class I areas in South Dakota. South Dakota states that in the future the data produced by the IMPROVE monitoring network will be used for preparing the regional haze progress reports and SIP revisions, and thus, the monitoring data from the IMPROVE sites needs to be readily accessible and be kept up-to-date. The Visibility Information Exchange Web System website has been maintained by WRAP and the other Regional Planning Organizations to provide ready access to the IMPROVE data and data analysis tools.

In addition, the State operates additional non-IMPROVE monitors in both Badlands and Wind Cave National Parks which help South Dakota characterize air pollution levels in areas across the State, and therefore aid in the analysis of visibility improvement in and near its Class I areas.⁵⁹

⁵⁹ South Dakota Progress Report, p. 42.

The EPA proposes to find that South Dakota has adequately addressed the applicable provisions of 40 CFR 51.308(g)(7) regarding monitoring strategy because the State reviewed its visibility monitoring strategy, and determined that no further modifications to the strategy are necessary.

B. Determination of Adequacy of the Existing Regional Haze Plan

The provisions under 40 CFR 51.308(h) require states to determine the adequacy of their existing implementation plan to meet existing goals. South Dakota's Progress Report includes a negative declaration regarding the need for additional actions or emissions reductions in South Dakota beyond those already in place and those to be implemented by 2018 according to South Dakota's regional haze plan.⁶⁰

⁶⁰ South Dakota Progress Report, p. 45.

The EPA proposes to conclude that South Dakota has adequately addressed 40 CFR 51.308(h) because the visibility trends at both Class I areas in the State, Badlands and Wind Cave National Parks, indicate that the relevant RPGs will be met via emission reductions already in place.

III. Proposed Action

The EPA is proposing to approve South Dakota's January 27, 2016, Regional Haze Progress Report as meeting the applicable regional haze requirements set forth in 40 CFR 51.308(g) and 51.308(h).

IV. Statutory and Executive Order Reviews

Under the CAA, the Administrator is required to approve a SIP submission that complies with the provisions of the Act and applicable federal regulations. See 42 U.S.C. 7410(k); 40 CFR 52.02(a). Thus, in reviewing SIP submissions, the EPA's role is to approve state choices, provided that they meet the criteria of the CAA. Accordingly, this proposed action merely proposes to approve state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because this action does not involve technical standards; and

• Does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen oxides, Particulate matter, Reporting and recordkeeping requirements, Sulfur dioxide, Volatile organic compounds.

Authority: 42 U.S.C. 7401 et seq.

Dated: March 13, 2018.
Douglas H. Benevento,
Regional Administrator, Region 8.

[FR Doc. 2018-05398 Filed 3-16-18; 8:45 am]

BILLING CODE 6560-50-P